DEPARTMENT OF THE INTERIOR

Bureau of Ocean Energy Management, Regulation, and Enforcement (BOEMRE); Cancellation of Oil and Gas Lease Sale 220 in the Mid-Atlantic Planning Area on the Outer Continental Shelf (OCS)

AGENCY: Bureau of Ocean Energy Management, Regulation, and Enforcement, Interior.

ACTION: Cancellation of Offshore Virginia Lease Sale 220.

SUMMARY: On May 27, 2010, the President announced the Secretary of the Interior's decision to cancel offshore Virginia Lease Sale 220 that was scheduled for 2011. Cancellation of Sale 220 will allow time to develop and implement measures to improve the safety of oil and gas development in Federal waters, provide greater environmental protection, and substantially reduce the risk of catastrophic events. The Call for Information and Interest/Nominations and Notice of Intent to prepare an Environmental Impact Statement for OCS Oil and Gas Lease Sale 220 was published in Federal Register Vol. 73, No. 220, on Thursday, November 13, 2008. The findings of the National Commission on the BP Deepwater Horizon Oil Spill and Offshore Drilling, (the National Commission was established by Executive Order 13543, dated May 21, 2010, as published in the Federal Register on May 26, 2010, (75 FR 29397)), environmental reviews, science-based analysis and public input will inform the Secretary's decisions about whether to move forward with other leases sales in the Mid-Atlantic Planning Area in the future 2012-2017 leasing program.

FOR FURTHER INFORMATION CONTACT: Ms. Renee Orr, Bureau of Ocean Energy Management, Regulation, and Enforcement, Chief, Leasing Division, at (703) 787-1215 or renee.orr@mms.gov.

Dated: July 7, 2010.
Michael R. Bromwich,
Director, Bureau of Ocean Energy Management, Regulation, and Enforcement.

[FR Doc. 2010-18510 Filed 7-27-10; 8:45 am]

BILLING CODE 4310-MR-P